DEPARTMENT OF DEFENSE

Department of the Army

Western Hemisphere Institute for Security Cooperation Board of Visitors; Meeting

AGENCY Department of the Army, DoD.

ACTION: Notice of open meeting.

SUMMARY: This notice sets forth the schedule and summary agenda for the meeting of the Board of Visitors (VoV) for the Western Hemisphere Institute for Security Cooperation (WHINSEC). Notice of this meeting is required under the Federal Advisory Committee Act (Pub. L. 92-463). This board was chartered on February 1, 2002 in Compliance with the requirements set forth in 10 U.S.C. 2166.

Dates: December 11-12, 2003.

Time: 9 a.m. to 5:30 p.m. (December 11) and 8:45 a.m. to 12 p.m. (December 12).

Location: Pratt Hall, Building 35, 7011 Morrison Ave., Fort Benning, GA 31905.

Proposed Agenda: The WHINSEC BoV will receive status briefings of actions taken on last year's BoV recommendations and on new activities and efforts since December 2002; look into any matters it deems important; meet with groups of WHINSEC faculty and standents; and prepare for its initial session for 2004. The Board will also develop its draft observations and recommendations to forward to the Secretary of Defense and the Secretary of the Army.

FOR FURTHER INFORMATION CONTACT: Ken LaPlante, Executive Liaison, WHINSEC, Army G-3 at (703) 692-7419 or LTC Linda Gould, Chief, Latin American Branch, Army G-3 at (703) 693-7419.

SUPPLEMENTARY INFORMATION: The meeting is open to the public. Please note that the Board will recess on December 11 for lunch between 12:00 p.m. and 1:30 p.m. The DFO had set aside 3 p.m. to 3:30 p.m. on December 11 for public comments by individuals and organizations. Public comment and presentations will be limited to two minutes each and members of the public desiring to make oral statements or presentations must inform the contact personnel, in writing. Requests must be received before Friday, December 5, 2003. Mail written presentations and requests to register to attend the public sessions to: LTC Gould or Mr. LaPlante at HQDA Army G-3 (Room 38473), 400 Army Pentagon, Washington, DC 20310. Public seating is limited, and is available on a first come, first served basis.

John C. Speedy III,
Designated Federal Officer, WHINSEC BoV

[FR Doc. 03-29011 Filed 11-19-03; 8:45 am]

BILLING CODE 3710-08-M